DEPARTMENT OF HEALTH AND HUMAN SERVICES

Administration for Children and Families

Proposed Information Collection Activity: Comment Request

Title: Innovative Strategies for Increasing Self-Sufficiency: Follow-Up Data Collections.

OMB No.: 0970-0397.

Description: The Administration for Children and Families (ACF), U.S. Department of Health and Human Services (HHS), is proposing a data collection activity as part of the Innovative Strategies for Increasing Self-Sufficiency (ISIS) evaluation. ISIS is an evaluation of 9 promising career pathways strategies to promote education, employment, and self-sufficiency. The major goal of ISIS is to increase the empirical knowledge about the effectiveness of programs for low-income individuals and families to achieve educational credentials, attain employment and advance to positions that enable self-sufficiency.

ISIS is one project within the broader portfolio of research that OPRE is utilizing to assess the success of the career pathways programs and models. In addition to ISIS, this strategy includes a multi-pronged research and evaluation approach for the Health Profession Opportunity Grants (HPOG) Program to better understand and assess the activities conducted and their results. In order to maximize learning across this portfolio, survey development for the HPOG and ISIS baseline and follow up surveys is being coordinated, and the majority of the data elements collected in these surveys are similar.

Two data collection efforts have been approved for ISIS, including one for baseline data collection (approved November 2011), a second for data collection activities to document program implementation, data collection activities for an initial follow-up survey of participants to be administered approximately 15 months after random assignment, and data collection through in-depth interviews for a small sample of study participants (approved August 2013). Additionally, three related data collection efforts for HPOG research were approved by OMB under OMB #0970-0394. These include approval of a Performance Reporting System (PRS) (approved September 2011), for collection of additional baseline data for the HPOG-Impact study (approved October 2012), and for collection of data for the National Implementation Evaluation (approved August 2013). Additionally, a new request is being submitted at the same time as this request.

This Federal Register Notice provides the opportunity to comment on a proposed new information collection activity for ISIS—a second follow-up survey for ISIS participants approximately 36 months after program enrollment. The purpose of the survey is to follow-up with study participants to document their education and training experiences, employment experiences, and parenting practices and child outcomes for participants with children.

Data collection activities to submit in a future information collection request include a third follow-up survey for ISIS study participants approximately 60 months after study enrollment.

Previously approved collection activities under 0970-0397 will continue under this new request, including additional data collection using the following previously approved instruments: The Basic Information Form; the Self-Administered Questionnaire; 15-Month Follow-Up Survey; 15-Month Follow-Up Survey Tracking Letters; Study Participant In-depth Interview Guide; and Study Participant Check-in Call the estimated number of study participants for the 15-Month Survey and in-depth interviews is reduced from the previous OMB submission. Total sample size targets were reduced at a number of ISIS program sites to reflect actual study enrollment experiences. The number of in-depth interviews projected was also reduced to incorporate experiences to date recruiting participants.

Respondents: Individuals enrolled in the ISIS study.

Annual Burden Estimates
[This information collection request is for a three-year period]
Instrument | Total number of respondents | Annual number of respondents | Number of responses per respondent | Average burden hours per response | Annual burden hours
Previously Approved Instruments
Baseline data collection: Basic Information Form | 24 | 8 | 1 | .25 | 2
Baseline data collection: Self-administered Questionnaire | 24 | 8 | 1 | .33 | 3
15 Month Follow-up Survey | 2,900 | 967 | 1 | 0.833 | 805
15-Month Follow-up Survey Tracking Letters | 1,782 | 594 | 3 | 0.083 | 148
Study Participant In-depth Interview Guide | 144 | 48 | 1 | 1 | 48
Study Participant Check-in Call | 144 | 48 | 1 | .16 | 8
Current Request for Approval
36-Month Follow-up Survey | 7,386 | 2,462 | 1 | 1 | 2,462
36-Month Follow-up Survey Tracking Letters | 7,386 | 2,462 | 6 | 0.083 | 1,226

Estimated Total Annual Burden Hours: 4,702.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Karl Koerper,
Reports Clearance Officer.

[FR Doc. 2014-14566 Filed 6-20-14; 8:45 am]

BILLING CODE 4184-09-P